DEPARTMENT OF LABOR

Office of the Secretary

Submission for OMB Review: Comment Request

July 14, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Application for Authority to Employ Full-Time Students at Subminimum Wages in Retail/Service Establishments or Agriculture.

OMB Number: 1215-0032.

Form Numbers: WH-200 and WH-202.

Frequency: On occasion and annually.

Type of Response: Reporting.

Affected Public: Business or other for-profit; not-for-profit institutions; and farms.

Form | Estimated number of annual responses | Average response time (hours) | Estimated annual burden hours
WH-200 (initial applications) | 5 | 0.50 | 3
WH-200 (renewal applications) | 155 | 0.17 | 26
WH-202 (initial applications) | 10 | 0.33 | 3
WH-202 (renewal applications) | 70 | 0.17 | 12
Total | 240 |  | 43

Total Annualized capital/startup costs: $0.

Total Annual Costs (operating/maintaining systems or purchasing services): $96.

Description: The Fair Labor Standards Act (FLSA), 29 U.S.C. 201 et seq., sections 14(b)(1) and 14(b)(2) require the Secretary of Labor to provide certificates authorizing the employment of full-time students at 85 percent of the applicable minimum wage in retail or service establishments and in agriculture, to the extent necessary to prevent curtailment of opportunities for employment. These provisions set limits on such employment as well as prescribe safeguards to protect the full-time students so employed and full-time employment opportunities of other workers. Sections 519.3, 519.4 and 519.6 of Regulations, 29 CFR part 519, Employment of Full-Time Students at Subminimum Wages, set forth the application requirements as well as the terms and conditions for the (1) employment of full-time students at subminimum wages under certificates and (2) temporary authorization to employ such students at subminimum wages. The WH-200 and WH-202 are voluntary use forms that are prepared and signed by an authorized representative of the employer to employ full-time students at subminimum wage. This information is used to determine whether a retail or service or agricultural employer should be authorized to pay subminimum wages to full-time students pursuant to the provisions of section 14(b) of the Fair Labor Standards Act.

Darrin A. King,
Acting Departmental Clearance Officer.

[FR Doc. 05-14197 Filed 7-19-05; 8:45 am]

BILLING CODE 4510-27-P